ENVIRONMENTAL PROTECTION AGENCY

40 CFR Part 81

[EPA-HQ-OAR-2013-0802; FRL 9909-24-OAR]

RIN 2060-AS15

Technical Amendments to Inadvertent Errors in Air Quality Designations for Fine Particles, Ozone, Lead, Nitrogen Dioxide and Sulfur Dioxide

AGENCY: Environmental Protection Agency (EPA).

ACTION: Direct final rule.

SUMMARY: The Environmental Protection Agency (EPA) is taking direct final action to make technical amendments to address several minor, inadvertent and nonsubstantive errors in the regulatory text establishing the air quality designations for certain areas in fourteen states for the 1997 Fine Particles (PM2.5) National Ambient Air Quality Standard (NAAQS), the 2008 Ozone NAAQS, the 2008 Lead NAAQS, the 2010 Nitrogen Dioxide (NO2) NAAQS and the 2010 Sulfur Dioxide (SO2) NAAQS. The states are: Alabama, Florida, Georgia, Idaho, Indiana, Iowa, Minnesota, Missouri, North Carolina, Ohio, Oregon, Tennessee, Washington and Wisconsin. This action does not change the designation for any area.

DATES: This rule is effective on August 4, 2014 without further notice, unless the EPA receives adverse comment by June 4, 2014. If the EPA receives adverse comment, we will publish a timely withdrawal in the Federal Register informing the public that this rule, or the relevant provisions of this rule, will not take effect.

ADDRESSES: Submit your comments, identified by Docket ID No. EPA-HQ-OAR-2013-0802, by one of the following methods:

• www.regulations.gov. Follow the on-line instructions for submitting comments.

• Email: a-and-r-Docket@epamail.epa.gov, Attention Docket ID No. EPA-HQ-OAR-2013-0802.

• Fax: (202) 566-1541, Attention Docket ID No. EPA-HQ-OAR-2013-0802.

• Mail: Docket ID No. EPA-HQ-OAR-2013-0802, Environmental Protection Agency, Mailcode: 6102T, 1200 Pennsylvania Ave. NW., Washington, DC 20460.

• Hand Delivery: EPA Docket Center, U.S. Environmental Protection Agency, 1301 Constitution Avenue NW., Room: 3334, Mail Code: 6102T, Washington, DC 20460, Attention Docket ID No. EPA-HQ-OAR-2013-0802. Such deliveries are only accepted during the Docket's normal hours of operation, and special arrangements should be made for deliveries of boxed information.

Instructions: Direct your comments to Docket ID No. EPA-HQ-OAR-2013-0802. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses. For additional information about commenting on this rule, see section II of this document. For additional information about the EPA's public docket, visit the EPA Docket Center homepage at http://www.epa.gov/epahome/dockets.htm.

Docket: All documents in the docket are listed in the index at http://www.regulations.gov. Although listed in the index, some information is not publicly available, i.e., CBI or other information whose disclosure is restricted by statute. Certain other material, such as copyrighted material, is not placed on the Internet and will be publicly available only in hard copy form. Publicly available docket materials are available either electronically through http://www.regulations.gov or in hard copy at the EPA's Docket Center, Public Reading Room, William Jefferson Clinton West Building, Room 3334, 1301 Constitution Avenue NW., Washington, DC 20004. This Docket Center is open from 8:30 a.m. to 4:30 p.m., Monday through Friday, excluding legal holidays. The telephone number for the Public Reading Room is (202) 566-1744, and the telephone number for the Air Docket is (202) 566-1742.

Documents related to the affected designations are available in the following dockets:

Designations for the 1997 PM2.5 NAAQS: Docket ID No. EPA-HQ-OAR-2003-0061;

Designations for the 2008 Ozone NAAQS: Docket ID No. EPA-HQ-OAR-2008-0476;

Designations for the 2008 Lead NAAQS: Docket ID No. EPA-HQ-OAR-2009-0443;

Designations for the 2010 NO2 NAAQS: Docket ID No. EPA-HQ-OAR-2011-0572; and

Designations for the 2010 SO2 NAAQS: Docket ID No. EPA-HQ-OAR-2012-0233.

In addition, the EPA has established Web sites for the designation rulemakings at: http://www.epa.gov/pmdesignations/, http://www.epa.gov/ozonedesignations, http://www.epa.gov/leaddesignations/, http://www.epa.gov/no2designations/ and http://www.epa.gov/so2designations.

FOR FURTHER INFORMATION CONTACT: Carla Oldham, Office of Air Quality Planning and Standards, U.S. Environmental Protection Agency, Mail Code C539-04, Research Triangle Park, N.C. 27711, phone number (919) 541-3347 or by email at: oldham.carla@epa.gov.

SUPPLEMENTARY INFORMATION:

Table of Contents

The following is the outline of the preamble.

I. Why is the EPA using a direct final rule?

II. What should I consider as I prepare my comments for EPA?

A. Submitting CBI

B. Tips for Preparing Your Comments

III. What is the purpose of this action?

IV. What are the technical amendments to inadvertent errors in prior designations?

A. Technical Amendments Concerning Designations for the 1997 PM2.5 Annual NAAQS

B. Technical Amendments Concerning Designations for the 2008 Ozone NAAQS

C. Technical Amendments Concerning Designations for the 2008 Lead NAAQS

D. Technical Amendments Concerning Designations for the 2010 NO2 NAAQS

E. Technical Amendments Concerning Designations for the 2010 SO2 NAAQS

V. Statutory and Executive Order Reviews

A. Executive Order 12866: Regulatory Planning and Review and Executive Order 13563: Improving Regulation and Regulatory Review

B. Paperwork Reduction Act

C. Regulatory Flexibility Act

D. Unfunded Mandates Reform Act (UMRA)

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act (NTTAA)

J. Executive Order 12898: Federal Actions To Address Environmental Justice in Minority Populations and Low-Income Populations

K. Congressional Review Act

L. Judicial Review

I. Why is the EPA using a direct final rule?

The EPA is publishing this direct final rule without a prior proposed rule because we view this as a noncontroversial action and anticipate no adverse comment. This action makes technical amendments to address several minor, inadvertent and nonsubstantive errors in the regulatory text that established the air quality designations for certain areas for several NAAQS. However, in the “Proposed Rules” section of this Federal Register, we are publishing a separate document that will serve as the proposed rule to make the technical amendments if adverse comments are received on this direct final rule. We will not institute a second comment period on this action. Any parties interested in commenting must do so at this time. For further information about commenting on this rule, see the ADDRESSES section and section II of this document.

If the EPA receives adverse comment, we will publish a timely withdrawal in the Federal Register informing the public that this direct final rule will not take effect. We would address all public comments in any subsequent final rule based on the proposed rule. If we receive adverse comment on a distinct provision of this rulemaking, we will publish a timely withdrawal in the Federal Register indicating which provisions we are withdrawing. The provisions that are not withdrawn will become effective on the date set out above, notwithstanding adverse comment on any other provision.

II. What should I consider as I prepare my comments for EPA?

A. Submitting CBI

Do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, OAQPS Document Control Officer (C404-02), U.S. EPA, Research Triangle Park, NC 27711, Attention Docket ID No. EPA-HQ-OAR-2013-0802.

B. Tips for Preparing Your Comments

When submitting comments, remember to:

• Identify the rulemaking by docket number and other identifying information (subject heading, Federal Register date and page number).

• Follow directions—The agency may ask you to respond to specific questions or organize comments by referencing a Code of Federal Register (CFR) part or section number.

• Explain why you agree or disagree; suggest alternatives and substitute language for your requested changes.

• Describe any assumptions and provide any technical information and/or data that you used.

• Provide specific examples to illustrate your concerns and suggest alternatives.

• Explain your views as clearly as possible.

• Make sure to submit your comments by the comment period deadline identified.

III. What is the purpose of this action?

Whenever the EPA establishes a new NAAQS, section 107(d) of the Clean Air Act (CAA) requires the EPA to designate all areas of the country as meeting or not meeting the new NAAQS, or as unclassifiable where available information does not support a determination whether an area is meeting the NAAQS. The area designations and boundaries for each NAAQS are set forth in tables in the CFR at 40 CFR part 81.

This action makes technical amendments to minor, inadvertent and nonsubstantive errors in the 40 CFR part 81 regulatory text concerning the air quality designations for certain areas in fourteen states for the 1997 PM2.5 NAAQS, the 2008 Ozone NAAQS, the 2008 Lead NAAQS, the 2010 NO2 NAAQS and the 2010 SO2 NAAQS. These states are: Alabama, Florida, Georgia, Idaho, Indiana, Iowa, Minnesota, Missouri, North Carolina, Ohio, Oregon, Tennessee, Washington and Wisconsin. The affected areas and the inadvertent errors to be corrected are discussed in section IV and the revisions to the regulatory text are provided at the end of this preamble. This action does not change the designation for any area.

IV. What are the technical amendments to inadvertent errors in prior designations?

A. Technical Amendments Concerning Designations for the 1997 PM2.5 Annual NAAQS

In an action signed on December 17, 2004, the EPA promulgated air quality designations for the 1997 annual PM2.5 NAAQS (70 FR 944; January 5, 2005). The EPA designated Chattanooga as a multi-state nonattainment area that includes parts of Tennessee, Georgia and Alabama. As the naming convention for identifying multi-state nonattainment areas, the EPA uses the initials for all states that are partially or wholly included in the area. For the Chattanooga nonattainment area, the EPA inadvertently omitted the state initials for Alabama and identified the area as Chattanooga, TN-GA in the 40 CFR part 81 tables designation tables. Therefore, it is not evident when looking at the area name in the 40 CFR part 81 tables for Tennessee and Georgia that the area includes a portion of Alabama. The EPA is correcting the area name to be Chattanooga, TN-GA-AL.

B. Technical Amendments Concerning Designations for the 2008 Ozone NAAQS

In an action signed on April 30, 2012, the EPA promulgated air quality designations for the 2008 ozone NAAQS (77 FR 30088; May 21, 2012). By letter dated January 28, 2014, the North Carolina Department of Environment and Natural Resources notified the EPA that there were errors in the 40 CFR part 81 designation table for North Carolina. Specifically, North Carolina pointed out that Concord Township in Cabarrus County and Gold Hill Township in Rowan County were not listed as part of the Charlotte-Rock Hill, NC-SC nonattainment area.

In March 2009, and again in October 2011, North Carolina recommended that the counties of Cabarrus, Gaston, Lincoln, Mecklenburg, Rowan, Union, in their entirety and a portion of Iredell County be designated as “nonattainment.” After evaluating North Carolina's recommendation, in December 2011, the EPA notified North Carolina that it intended to designate those areas as part of the Charlotte-Rock Hill, NC-SC nonattainment area. On February 29, 2012, North Carolina submitted an updated recommendation requesting that for Cabarrus, Gaston, Lincoln, Rowan and Union Counties, the EPA only include certain townships in the nonattainment area. North Carolina provided a multi-factor technical analysis for each county to support the partial county boundaries and provided maps identifying the townships the state recommended as nonattainment. The EPA evaluated the new technical information and concluded it was appropriate to include the partial counties, as recommended by North Carolina, as part of the designated nonattainment area. The technical analyses for Cabarrus and Rowan Counties and the nonattainment area maps are clear that Concord Township in Cabarrus County and Gold Hill Township in Rowan County were intended to be included as part of the nonattainment area. However, the two counties were not listed in Table 1 of their recommendation. In preparing the 40 CFR part 81 designation table, the EPA relied on Table 1 for its list of counties included as part of the nonattainment area, and thus inadvertently did not include Concord and Gold Hill Townships. Therefore, the EPA is correcting the errors by listing Concord Township in Cabarrus County and Gold Hill Township in Rowan County as part of that Charlotte-Rock Hill, NC-SC nonattainment area, consistent with the state's recommendation and the analysis in the record.

In an action signed on May 31, 2012, the EPA promulgated the air quality designation for the 2008 Ozone NAAQS for several counties in Illinois, Indiana and Wisconsin (77 FR 34221; June 11, 2012). The EPA designated all or parts of 11 counties as the Chicago-Naperville, IL-IN-WI nonattainment area, including part of Kenosha County, WI. In the 40 CFR part 81 table for Wisconsin, the EPA described the included part of Kenosha County in terms of townships, based on historical maps that the EPA has since learned are no longer in general use. Therefore, the EPA is replacing the description of the boundary for the included part of the county with an alternative description that is easily recognizable and well defined in existing maps and documents in current use. The alternative partial county description is “The portion of Kenosha County bounded by the Lake Michigan shoreline on the East, the Kenosha County boundary on the North, the Kenosha County boundary on the South and the I-94 corridor (including the entire corridor) on the West.”

C. Technical Amendments Concerning Designations for the 2008 Lead NAAQS

The EPA completed the designations for the 2008 Lead NAAQS in two final rules. The EPA promulgated the first rule designating certain areas for the 2008 Lead NAAQS in an action signed on November 16, 2010 (75 FR 71033; November 22, 2010) and the second rule designating all remaining areas on November 8, 2011 (76 FR 72097; November 22, 2011).

The EPA is correcting inadvertent errors in the entries for two areas in the 40 CFR part 81 tables for the lead designations. In the second rule, the EPA inadvertently omitted the word “County” in the name of the lead nonattainment area in Iowa and identified it as “Pottawattamie, IA” rather than “Pottawattamie County, IA.” The EPA is adding “County” to the area name. The area is correctly identified as “Pottawattamie County, IA” in the Technical Support Document (TSD) for the area, which is available in the docket (EPA-HQ-OAR-2009-0443-0491).

In the second rule designating areas for the 2008 Lead NAAQS, the EPA also reformatted the existing lead designation tables in 40 CFR part 81. For the “Iron, Dent, and Reynolds Counties, MO” nonattainment area, which was designated in the first rule, a typographical error occurred when the tables were reformatted, which resulted in the designation effective date for the included portion of Dent County being listed in the 40 CFR part 81 table as 2/31/10 rather than 12/31/10. The effective date was correct in the original table included in the first rule. The EPA is correcting the typographical error. The effective date for the other portions of the nonattainment area is correctly identified as 12/31/10, consistent with the effective date for all other areas designated in the first designation rule.

D. Technical Amendments Concerning Designations for the 2010 NO2 NAAQS

In an action signed on January 20, 2012, the EPA promulgated air quality designations for the 2010 NO2 NAAQS (77 FR 9532; February 17, 2012). The EPA designated all areas as unclassifiable/attainment. In letters sent in June 2011, from the EPA Regional Administrators to the states, the EPA indicated it intended to designate all areas of the country as unclassifiable/attainment using the boundaries each state had recommended to the EPA or using revised boundaries each state might provide in response to the letter. The EPA recommended that the states consider the implications for the prevention of significant deterioration permitting program if the entire state were designated as a single area rather than as several smaller areas.

For the states of Indiana, Minnesota and Washington, the EPA inadvertently designated areas according to the state's original recommendations rather than the revised boundary recommendations submitted by these states. For Idaho and Oregon, the EPA designated areas according to the EPA's interpretation of each state's original recommendation. Subsequently, the states informed the EPA that the agency had interpreted their recommendations incorrectly. The EPA is correcting the listings of the unclassifiable/attainment areas for each of these five states in accordance with their recommendations as discussed below.

For Indiana, the EPA designated four counties separately and designated the remaining counties in the states collectively as “Rest of State.” By letter dated July 29, 2011, from Thomas W. Easterly, Commissioner of the State of Indiana, to Susan Hedman, EPA Regional Administrator, Indiana responded to the EPA's June 2011 letter concerning designations for the NO2 NAAQS. Indiana said it “wishes to make it clear that each county within the state should be classified under the standard separately.” The EPA is correcting the listing of the of unclassifiable/attainment areas in Indiana to list those remaining counties as separate areas.

For Minnesota, the EPA designated all areas in the state unclassifiable/attainment collectively as “State of Minnesota.” By letter dated August 9, 2011, from Paul W. Assen, Commissioner of Minnesota, to Susan Hedman, EPA Regional Administrator, Minnesota provided revised recommendations in response to the EPA's June 2011 letter concerning designations for the NO2 NAAQS. Minnesota recommended that the EPA “make a designation for each county within Minnesota.” The EPA is correcting the listing of the unclassifiable/attainment areas in Minnesota to list each county as a separate area.

For Washington, the EPA designated all areas in the state unclassifiable/attainment collectively as “State of Washington.” By letter dated August 19, 2011, from Ted Sturdevant, Director of the State of Washington Department of Ecology, to Dennis J. McLerran, EPA Regional Administrator, Washington clarified the state's recommendations in response to the EPA's June 2011 letter concerning designations for the NO2 NAAQS. Washington recommended that all six of the state's Air Quality Control Regions (AQCRs) be designated unclassifiable/attainment. The EPA is correcting the listing of the unclassifiable/attainment areas in Washington to list the areas by AQCRs.

For Idaho, the EPA designated the unclassifiable/attainment areas by AQCRs, according to the EPA's interpretation of the state's December 17, 2010, recommendation from Toni Hardesty, Director of the Idaho Department of Environmental Quality to Dennis J. McLerran, EPA Regional Administrator. Subsequently, in conversation with the EPA, Idaho clarified that the state had wanted a statewide area designation for the NO2 NAAQS rather than listing each AQCR as a separate area. The EPA is correcting the listings of the unclassifiable/attainment areas for Idaho to specify one statewide unclassifiable/attainment area in accordance with the state's original recommendation, as clarified.

For Oregon, the EPA designated each county separately as an unclassifiable/attainment area according to the EPA's interpretation of the state's January 21, 2011, recommendation from Governor John Kitzhaber, MD to Dennis J. McLerran, EPA Regional Administrator. Subsequently, in conversation with the EPA, Oregon clarified that the state had wanted all areas in the state to be designated collectively as one statewide area for the NO2 NAAQS rather than by separate counties. The EPA is correcting the listings of the unclassifiable/attainment areas for Oregon to specify one statewide unclassifiable/attainment area in accordance with the state's original recommendation, as clarified.

E. Technical Amendments Concerning Designations for the 2010 SO2 NAAQS

In an action signed on July 25, 2013, the EPA promulgated the initial designations for certain areas for the 2010 SO2 NAAQS (78 FR 47191; August 5, 2013). The EPA is correcting inadvertent errors in descriptions for two of the areas.

The EPA designated part of Hillsborough County, Florida as nonattainment. In the 40 CFR part 81 table for Florida, the EPA described the boundary of the nonattainment portion of the county as: “That portion of Hillsborough County encompassed by the polygon with the vertices using Universal Traverse Mercator (UTM) coordinates in UTM zone 17 with datum NAD83 as follows: (1) Vertices—UTM Easting (m) 35881, UTM Northing 3076066; (2) vertices—UTM Easting (m) 355673, UTM Northing 3079275; (3) vertices—UTM Easting (m) 360300, UTM Northing 3086380; (4) vertices—UTM Easting (m) 366850, UTM Northing 3086692; (5) vertices—UTM Easting (m) 368364, UTM Northing 3083760; and (6) vertices—UTM Easting (m) 365708, UTM Northing 3079121.” Under (1) of the boundary description, the EPA made a typographical error that omitted a digit in identifying the UTM Easting (m) vertice. The EPA is correcting the error so that the number reads as “358581” rather than “35881.” This correction is consistent with the TSD for the nonattainment area, which is available in the docket (EPA-HQ-OAR-2012-0233-0307) and on the SO2 designations Web site.

For the Campbell-Clermont Counties, KY-OH SO2 nonattainment area, the entry for the area in the 40 CFR part 81 table for Ohio indicates that only part of Clermont County is included in the nonattainment area, but the boundary description for the included part was inadvertently omitted. Therefore, the EPA is adding the partial county description to read “Pierce Township” as provided in the TSD (EPA-HQ-OAR-2012-0233-0313) for the nonattainment area, which is available in the docket and on the SO2 designations Web site.

V. Statutory and Executive Order Reviews

A. Executive Order 12866: Regulatory Planning and Review and Executive Order 13563: Improving Regulation and Regulatory Review

This action makes technical amendments to minor, inadvertent and nonsubstantive errors in prior area designations. This type of action is exempt from review under Executive Orders 12866 (58 FR 51735, October 4, 1993) and 13563 (76 FR 3821, January 21, 2011).

B. Paperwork Reduction Act

This action does not impose an information collection burden under the provisions of the Paperwork Reduction Act, 44 U.S.C. 3501 et seq. Burden is defined at 5 CFR 1320.3(b). This action corrects minor, inadvertent and nonsubstantive errors in prior area designations and does not require any party to perform an information collection.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations and small governmental jurisdictions. For purposes of assessing the impacts of today's rule on small entities, small entity is defined as: (1) A small business as defined by the Small Business Administration's regulations at 13 CFR 121.201; (2) a small governmental jurisdiction that is a government of a city, county, town, school district or special district with a population of less than 50,000; and (3) a small organization that is any not-for-profit enterprise which is independently owned and operated and is not dominant in its field.

After considering the economic impacts of today's final rule on small entities, I certify that this action will not have a significant economic impact on a substantial number of small entities. This action makes technical amendments to address several minor, inadvertent and nonsubstantive errors in the regulatory text concerning the air quality designations for certain areas in prior designation actions and does not impose any requirements on small entities.

D. Unfunded Mandates Reform Act (UMRA)

This action contains no federal mandate under the provisions of Title II of the UMRA of 1995, 2 U.S.C. 1531-1538 for state, local or tribal governments or the private sector. The action does not impose an enforceable duty on any state, local or tribal governments or the private sector. Therefore, this action is not subject to the requirements of sections 202 and 205 of the UMRA.

This action is also not subject to the requirements of section 203 of UMRA because it contains no regulatory requirements that might significantly or uniquely affect small governments. This action corrects minor, inadvertent and nonsubstantive errors in prior area designations.

E. Executive Order 13132: Federalism

This action does not have federalism implications. It will not have substantial direct effects on the states, on the relationship between the national government and the states, or on the distribution of power and responsibilities among the various levels of government, as specified in Executive Order 13132. This action make technical amendments to minor, inadvertent and nonsubstantive errors in prior area designations. Thus, Executive Order 13132 does not apply to this action.

F. Executive Order 13175: Consultation and Coordination With Indian Tribal Governments

This action does not have tribal implications, as specified in Executive Order 13175 (65 FR 67249, November 9, 2000). This action only makes technical amendments to minor, inadvertent and nonsubstantive errors in prior area designations. Thus, Executive Order 13175 does not apply to this action.

G. Executive Order 13045: Protection of Children From Environmental Health and Safety Risks

The EPA interprets Executive Order 13045 (62 FR 19885, April 23, 1997) as applying only to those regulatory actions that concern health or safety risks, such that the analysis required under section 5-501 of the Executive Order has the potential to influence the regulation. This action is not subject to Executive Order 13045 because it does not establish an environmental standard intended to mitigate health or safety risks.

H. Executive Order 13211: Actions That Significantly Affect Energy Supply, Distribution or Use

This action is not subject to Executive Order 13211 (66 FR 28355 (May 22, 2001)), because it is not a significant regulatory action under Executive Order 12866.

I. National Technology Transfer and Advancement Act (NTTAA)

Section 12(d) of the NTTAA of 1995, Public Law No. 104-113, section 12(d) (15 U.S.C. 272 note) directs the EPA to use voluntary consensus standards (VCS) in its regulatory activities unless to do so would be inconsistent with applicable law or otherwise impracticable. VCS are technical standards (e.g., materials specifications, test methods, sampling procedures and business practices) that are developed or adopted by VCS bodies. The NTTAA directs the EPA to provide Congress, through the Office of Management and Budget, explanations when the agency decides not to use available and applicable VCS. This action does not involve technical standards. Therefore, the EPA did not consider the use of any VCS.

J. Executive Order 12898: Federal Actions To Address Environmental Justice in Minority Populations and Low-Income Populations

Executive Order 12898 (59 FR 7629 (Feb. 16, 1994)) establishes federal executive policy on environmental justice. Its main provision directs federal agencies, to the greatest extent practicable and permitted by law, to make environmental justice part of their mission by identifying and addressing, as appropriate, disproportionately high and adverse human health or environmental effects of their programs, policies and activities on minority populations and low-income populations in the U.S.

The EPA has determined that this rule will not have disproportionately high and adverse human health or environmental effects on minority or low-income populations because it does not affect the level of protection provided to human health or the environment. This action makes technical amendments to minor, inadvertent, nonsubstantive errors in the designations for certain areas.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives and the Comptroller General of the United States prior to publication of the rule in the Federal Register. A major rule cannot take effect until 60 days after it is published in the Federal Register. This action is not a “major rule” as defined by 5 U.S.C. 804(2). This rule will be effective on August 4, 2014.

L. Judicial Review

In the final actions designating areas for the PM2.5 NAAQS, ozone NAAQS, lead NAAQS, NO2 NAAQS, and SO2 NAAQS, the EPA determined that the actions were “nationally applicable” within the meaning of CAA section 307(b)(1). Because this action is making corrections to those nationally applicable rules, we are determining that this action is also nationally applicable within the meaning of section 307(b)(1). Thus, petitions for review of this final action must be filed in the Court of Appeals for the District of Columbia Circuit. Section 307(b)(1) requires such petitions to be filed within 60 days from the date final action is published in the Federal Register.

List of Subjects in 40 CFR Part 81

Environmental protection, Air pollution control, National parks, Wilderness areas.

Dated: April 15, 2014
Gina McCarthy,
Administrator.

For the reasons set forth in the preamble, 40 CFR Part 81, is amended as follows:

PART 81—DESIGNATION OF AREAS FOR AIR QUALITY PLANNING PURPOSES

1. The authority citation for part 81 continues to read as follows:

Authority: 42 U.S.C. 7401, et. seq.

Subpart C—Section 107 Attainment Status Designations

§ 81.301 [Amended]

2. In § 81.301, the table titled “Alabama—PM2.5 (Annual NAAQS)” is amended by removing “Chattanooga, TN-GA” in the “Designated area” column and adding in its place “Chattanooga, TN-GA-AL”.

3. In § 81.310, the table titled “Florida—2010 Sulfur Dioxide NAAQS (Primary)” is amended by revising the partial county description under “Hillsborough County (part)” under the “Hillsborough County, FL” nonattainment area to read as follows:

§ 81.310 Florida.

* * * * *

Florida—2010 Sulfur Dioxide NAAQS
[Primary]
Designated area | Designation: Date | Designation: Type
Hillsborough County, FL ¹ | 10-4-13 | Nonattainment.
Hillsborough County (part):
That portion of Hillsborough County encompassed by the polygon with the vertices using Universal Traverse Mercator (UTM) coordinates in UTM zone 17 with datum NAD83 as follows: (1) Vertices—UTM Easting (m) 358581, UTM Northing 3076066; (2) vertices—UTM Easting (m) 355673, UTM Northing 3079275; (3) UTM Easting (m) 360300, UTM Northing 3086380; (4) vertices—UTM Easting (m) 366850, UTM Northing 3086692; (5) vertices—UTM Easting (m) 368364, UTM Northing 3083760; and (6) vertices—UTM Easting (m) 365708, UTM Northing 3079121 |  |
* * * * * * *
¹ Excludes Indian country located in each area, if any, unless otherwise specified.

* * * * *

§ 81.311 [Amended]

4. In § 81.311, the table titled “Georgia—PM2.5 (Annual NAAQS)” is amended by removing “Chattanooga, TN-GA” in the “Designated area” column and adding in its place “Chattanooga, TN-GA-AL”.

5. Section 81.313 is amended by revising the table titled “Idaho—NO2 (2010 1-Hour Standard)” to read as follows:

§ 81.313 Idaho.

* * * * *

Idaho—NO2
[2010 1-Hour standard]
Designated area | Designation ᵃ: Date ¹ | Designation ᵃ: Type
State of Idaho |  | Unclassifiable/Attainment.
ᵃ Includes Indian Country located in each county or area, except as otherwise specified.
¹ This date is 90 days after October 31, 2011, unless otherwise noted.

* * * * *

6. Section 81.315 is amended by revising the table titled “Indiana—NO2 (2010 1-Hour Standard)” to read as follows:

§ 81.315 Indiana.

* * * * *

Indiana—NO2
[2010 1-Hour standard]
Designated area | Designation ᵃ: Date ¹ | Designation ᵃ: Type
Adams County |  | Unclassifiable/Attainment.
Allen County |  | Unclassifiable/Attainment.
Bartholomew County |  | Unclassifiable/Attainment.
Benton County |  | Unclassifiable/Attainment.
Blackford County |  | Unclassifiable/Attainment.
Boone County |  | Unclassifiable/Attainment.
Brown County |  | Unclassifiable/Attainment.
Carroll County |  | Unclassifiable/Attainment.
Cass County |  | Unclassifiable/Attainment.
Clark County |  | Unclassifiable/Attainment.
Clay County |  | Unclassifiable/Attainment.
Clinton County |  | Unclassifiable/Attainment.
Crawford County |  | Unclassifiable/Attainment.
Daviess County |  | Unclassifiable/Attainment.
Dearborn County |  | Unclassifiable/Attainment.
Decatur County |  | Unclassifiable/Attainment.
Dekalb County |  | Unclassifiable/Attainment.
Delaware County |  | Unclassifiable/Attainment.
Dubois County |  | Unclassifiable/Attainment.
Elkhart County |  | Unclassifiable/Attainment.
Fayette County |  | Unclassifiable/Attainment.
Floyd County |  | Unclassifiable/Attainment.
Fountain County |  | Unclassifiable/Attainment.
Franklin County |  | Unclassifiable/Attainment.
Fulton County |  | Unclassifiable/Attainment.
Gibson County |  | Unclassifiable/Attainment.
Grant County |  | Unclassifiable/Attainment.
Greene County |  | Unclassifiable/Attainment.
Hamilton County |  | Unclassifiable/Attainment.
Hancock County |  | Unclassifiable/Attainment.
Harrison County |  | Unclassifiable/Attainment.
Hendricks County |  | Unclassifiable/Attainment.
Henry County |  | Unclassifiable/Attainment.
Howard County |  | Unclassifiable/Attainment.
Huntington County |  | Unclassifiable/Attainment.
Jackson County |  | Unclassifiable/Attainment.
Jasper County |  | Unclassifiable/Attainment.
Jay County |  | Unclassifiable/Attainment.
Jefferson County |  | Unclassifiable/Attainment.
Jennings County |  | Unclassifiable/Attainment.
Johnson County |  | Unclassifiable/Attainment.
Knox County |  | Unclassifiable/Attainment.
Kosciusko County |  | Unclassifiable/Attainment.
Lagrange County |  | Unclassifiable/Attainment.
Lake County |  | Unclassifiable/Attainment.
La Porte County |  | Unclassifiable/Attainment.
Lawrence County |  | Unclassifiable/Attainment.
Madison County |  | Unclassifiable/Attainment.
Marion County |  | Unclassifiable/Attainment.
Marshall County |  | Unclassifiable/Attainment.
Martin County |  | Unclassifiable/Attainment.
Miami County |  | Unclassifiable/Attainment.
Monroe County |  | Unclassifiable/Attainment.
Montgomery County |  | Unclassifiable/Attainment.
Morgan County |  | Unclassifiable/Attainment.
Newton County |  | Unclassifiable/Attainment.
Noble County |  | Unclassifiable/Attainment.
Ohio County |  | Unclassifiable/Attainment.
Orange County |  | Unclassifiable/Attainment.
Owen County |  | Unclassifiable/Attainment.
Parke County |  | Unclassifiable/Attainment.
Perry County |  | Unclassifiable/Attainment.
Pike County |  | Unclassifiable/Attainment.
Porter County |  | Unclassifiable/Attainment.
Posey County |  | Unclassifiable/Attainment.
Pulaski County |  | Unclassifiable/Attainment.
Putnam County |  | Unclassifiable/Attainment.
Randolph County |  | Unclassifiable/Attainment.
Ripley County |  | Unclassifiable/Attainment.
Rush County |  | Unclassifiable/Attainment.
St. Joseph County |  | Unclassifiable/Attainment.
Scott County |  | Unclassifiable/Attainment.
Shelby County |  | Unclassifiable/Attainment.
Spencer County |  | Unclassifiable/Attainment.
Starke County |  | Unclassifiable/Attainment.
Steuben County |  | Unclassifiable/Attainment.
Sullivan County |  | Unclassifiable/Attainment.
Switzerland County |  | Unclassifiable/Attainment.
Tippecanoe County |  | Unclassifiable/Attainment.
Tipton County |  | Unclassifiable/Attainment.
Union County |  | Unclassifiable/Attainment.
Vanderburgh County |  | Unclassifiable/Attainment.
Vermillion County |  | Unclassifiable/Attainment.
Vigo County |  | Unclassifiable/Attainment.
Wabash County |  | Unclassifiable/Attainment.
Warren County |  | Unclassifiable/Attainment.
Warrick County |  | Unclassifiable/Attainment.
Washington County |  | Unclassifiable/Attainment.
Wayne County |  | Unclassifiable/Attainment.
Wells County |  | Unclassifiable/Attainment.
White County |  | Unclassifiable/Attainment.
Whitley County |  | Unclassifiable/Attainment.
ᵃ Includes Indian Country located in each county or area, except as otherwise specified.
¹ This date is 90 days after October 31, 2011, unless otherwise noted.

* * * * *

§ 81.316 [Amended]

7. In § 81.316, the table titled “Iowa—2008 Lead NAAQS” is amended by removing the entry “Pottawattamie, IA” in the “Designated area” column and adding in its place “Pottawattamie County, IA”.

8. Section 81.324 is amended by revising the table titled “Minnesota—NO2 (2010 1-Hour Standard)” to read as follows:

§ 81.324 Minnesota.

* * * * *

Minnesota—NO2
[2010 1-Hour standard]
Designated area | Designation ᵃ: Date ¹ | Designation ᵃ: Type
Aitkin County |  | Unclassifiable/Attainment.
Anoka County |  | Unclassifiable/Attainment.
Becker County |  | Unclassifiable/Attainment.
Beltrami County |  | Unclassifiable/Attainment.
Benton County |  | Unclassifiable/Attainment.
Big Stone County |  | Unclassifiable/Attainment.
Blue Earth County |  | Unclassifiable/Attainment.
Brown County |  | Unclassifiable/Attainment.
Carlton County |  | Unclassifiable/Attainment.
Carver County |  | Unclassifiable/Attainment.
Cass County |  | Unclassifiable/Attainment.
Chippewa County |  | Unclassifiable/Attainment.
Chisago County |  | Unclassifiable/Attainment.
Clay County |  | Unclassifiable/Attainment.
Clearwater County |  | Unclassifiable/Attainment.
Cook County |  | Unclassifiable/Attainment.
Cottonwood County |  | Unclassifiable/Attainment.
Crow Wing County |  | Unclassifiable/Attainment.
Dakota County |  | Unclassifiable/Attainment.
Dodge County |  | Unclassifiable/Attainment.
Douglas County |  | Unclassifiable/Attainment.
Faribault County |  | Unclassifiable/Attainment.
Fillmore County |  | Unclassifiable/Attainment.
Freeborn County |  | Unclassifiable/Attainment.
Goodhue County |  | Unclassifiable/Attainment.
Grant County |  | Unclassifiable/Attainment.
Hennepin County |  | Unclassifiable/Attainment.
Houston County |  | Unclassifiable/Attainment.
Hubbard County |  | Unclassifiable/Attainment.
Isanti County |  | Unclassifiable/Attainment.
Itasca County |  | Unclassifiable/Attainment.
Jackson County |  | Unclassifiable/Attainment.
Kanabec County |  | Unclassifiable/Attainment.
Kandiyohi County |  | Unclassifiable/Attainment.
Kittson County |  | Unclassifiable/Attainment.
Koochiching County |  | Unclassifiable/Attainment.
Lac qui Parle County |  | Unclassifiable/Attainment.
Lake County |  | Unclassifiable/Attainment.
Lake of the Woods County |  | Unclassifiable/Attainment.
Le Sueur County |  | Unclassifiable/Attainment.
Lincoln County |  | Unclassifiable/Attainment.
Lyon County |  | Unclassifiable/Attainment.
Mahnomen County |  | Unclassifiable/Attainment.
Marshall County |  | Unclassifiable/Attainment.
Martin County |  | Unclassifiable/Attainment.
McLeod County |  | Unclassifiable/Attainment.
Meeker County |  | Unclassifiable/Attainment.
Mille Lacs County |  | Unclassifiable/Attainment.
Morrison County |  | Unclassifiable/Attainment.
Mower County |  | Unclassifiable/Attainment.
Murray County |  | Unclassifiable/Attainment.
Nicollet County |  | Unclassifiable/Attainment.
Nobles County |  | Unclassifiable/Attainment.
Norman County |  | Unclassifiable/Attainment.
Olmsted County |  | Unclassifiable/Attainment.
Otter Tail County |  | Unclassifiable/Attainment.
Pennington County |  | Unclassifiable/Attainment.
Pine County |  | Unclassifiable/Attainment.
Pipestone County |  | Unclassifiable/Attainment.
Polk County |  | Unclassifiable/Attainment.
Pope County |  | Unclassifiable/Attainment.
Ramsey County |  | Unclassifiable/Attainment.
Red Lake County |  | Unclassifiable/Attainment.
Redwood County |  | Unclassifiable/Attainment.
Renville County |  | Unclassifiable/Attainment.
Rice County |  | Unclassifiable/Attainment.
Rock County |  | Unclassifiable/Attainment.
Roseau County |  | Unclassifiable/Attainment.
Scott County |  | Unclassifiable/Attainment.
Sherburne County |  | Unclassifiable/Attainment.
Sibley County |  | Unclassifiable/Attainment.
St. Louis County |  | Unclassifiable/Attainment.
Stearns County |  | Unclassifiable/Attainment.
Steele County |  | Unclassifiable/Attainment.
Stevens County |  | Unclassifiable/Attainment.
Swift County |  | Unclassifiable/Attainment.
Todd County |  | Unclassifiable/Attainment.
Traverse County |  | Unclassifiable/Attainment.
Wabasha County |  | Unclassifiable/Attainment.
Wadena County |  | Unclassifiable/Attainment.
Waseca County |  | Unclassifiable/Attainment.
Washington County |  | Unclassifiable/Attainment.
Watonwan County |  | Unclassifiable/Attainment.
Wilkin County |  | Unclassifiable/Attainment.
Winona County |  | Unclassifiable/Attainment.
Wright County |  | Unclassifiable/Attainment.
Yellow Medicine County |  | Unclassifiable/Attainment.
ᵃ Includes Indian Country located in each county or area, except as otherwise specified.
¹ This date is 90 days after October 31, 2011, unless otherwise noted.

* * * * *

§ 81.326 [Amended]

9. In § 81.326, the table titled “Missouri—2008 Lead NAAQS” is amended by removing the designation date “2/31/10” for the entry “Dent County (part)” and adding in its place the designation date “12/31/10”.

10. In § 81.334, the table titled “North Carolina—2008 8-Hour Ozone NAAQS (Primary and secondary)” is amended by revising the partial county descriptions under “Cabarrus County (part)” and “Rowan County (part)” under the “Charlotte-Rock Hill, NC-SC” nonattainment area to read as follows:

§ 81.334 North Carolina.

* * * * *

North Carolina—2008 8-Hour Ozone NAAQS
[Primary and secondary]
Designated area | Designation: Date ¹ | Designation: Type | Classification: Date ¹ | Classification: Type
Charlotte-Rock Hill, NC-SC: ² |  | Nonattainment |  | Marginal
Cabarrus County (part):
Central Cabarrus Township, Concord Township, Georgeville Township, Harrisburg Township, Kannapolis Township, Midland Township, Mount Pleasant Township, New Gilead Township, Odell Township, Poplar Tent Township, Rimertown Township.
* * * * * * *
Rowan County (part):
Atwell Township, China Grove Township, Franklin Township, Gold Hill Township, Litaker Township, Locke Township, Providence Township, Salisbury Township, Steele Township, Unity Township.
* * * * * * *
¹ This date is July 20, 2012, unless otherwise noted.
² Excludes Indian country located in each area, unless otherwise noted.
³ Includes any Indian country in each county or area, unless otherwise specified.

* * * * *

11. In § 81.336, the table titled “Ohio—2010 Sulfur Dioxide NAAQS (Primary) is amended by revising the entry for Campbell-Clermont Counties, KY-OH to read as follows:

§ 81.336 Ohio.

* * * * *

Ohio—2010 SO2 NAAQS
[Primary]
Designated area | Designation: Date | Designation: Type
Campbell-Clermont Counties, KY-OH ¹ | 10-4-13 | Nonattainment.
Clermont County (part):
Pierce Township.
* * * * * * *
¹ Excludes Indian country located in each area, if any, unless otherwise specified.

* * * * *

12. Section 81.338 is amended by revising the table titled “Oregon—NO2 (2010 1-Hour Standard)” to read as follows:

§ 81.338 Oregon.

* * * * *

Oregon—NO2
[2010 1-Hour standard]
Designated area | Designation ᵃ: Date ¹ | Designation ᵃ: Type
Statewide |  | Unclassifiable/Attainment.
ᵃ Includes Indian Country located in each county or area, except as otherwise specified.
¹ This date is 90 days after October 31, 2011, unless otherwise noted.

* * * * *

§ 81.343 [Amended]

13. In § 81.343, the table titled “Tennessee—PM2.5 (Annual NAAQS)” is amended by removing “Chattanooga, TN-GA” in the “Designated area” column and adding in its place “Chattanooga, TN-GA-AL”.

14. Section 81.348 is amended by revising the table titled “Washington—NO2 (2010 1-Hour Standard) to read as follows:

§ 81.348 Washington.

* * * * *

Washington—NO2
[2010 1-Hour standard]
Designated area | Designation ᵃ: Date ¹ | Designation ᵃ: Type
Puget Sound Intrastate AQCR |  | Unclassifiable/Attainment.
Portland (Oregon)-Southwest Washington Interstate AQCR (Washington portion) |  | Unclassifiable/Attainment.
Eastern Washington-Northern Idaho Interstate AQCR (Washington portion) |  | Unclassifiable/Attainment.
Northern Washington Intrastate AQCR |  | Unclassifiable/Attainment.
Olympic-Northwest Washington Intrastate AQCR |  | Unclassifiable/Attainment.
South Central Washington Intrastate AQCR |  | Unclassifiable/Attainment.
ᵃ Includes Indian Country located in each county or area, except as otherwise specified.
¹ This date is 90 days after October 31, 2011, unless otherwise noted.

* * * * *

15. In § 81.350, the table titled “Wisconsin—2008 8-Hour Ozone NAAQS (Primary and secondary)” is amended by revising the partial county description under “Kenosha County (part)” under the “Chicago-Naperville, IL—IN—WI” nonattainment area to read as follows:

§ 81.350 Wisconsin.

* * * * *

Wisconsin—2008 8-Hour Ozone NAAQS
[Primary and secondary]
Designated area | Designation: Date ¹ | Designation: Type | Classification: Date ¹ | Classification: Type
Chicago-Naperville, IL-IN-WI ² |  | Nonattainment |  | Marginal
Kenosha County (part):
The portion of Kenosha County bounded by the Lake Michigan shoreline on the East, the Kenosha County boundary on the North, the Kenosha County boundary on the South, and the I-94 corridor (including the entire corridor) on the West.
* * * * * * *
¹ This date is July 20, 2012, unless otherwise noted.
² Excludes Indian country located in each area, unless otherwise noted.

* * * * *

[FR Doc. 2014-09272 Filed 5-2-14; 8:45 am]

BILLING CODE 6560-50-P